DEPARTMENT OF DEFENSE

Department of the Navy

Partially Closed Meeting of the Secretary of the Navy Advisory Panel

AGENCY: Department of the Navy, DoD.

ACTION: Notice of Partially Closed Meeting.

SUMMARY: The Secretary of the Navy (SECNAV) Advisory Panel will meet to discuss recommendations for Military Program Managers in the Department of the Navy and strategies related to a classified topic.

DATES: The meeting will be held on February 6, 2009 from 8:45 a.m. to 2 p.m.

The morning sessions from 8:45 a.m. to 10:30 a.m. on February 6, 2009, will be open to the public, and the afternoon sessions from 10:45 a.m. to 2 p.m. on February 6, 2009, will be closed to the public.

ADDRESSES: The meeting will be held in Room 1E840, in the Pentagon.

Access: Public access is limited due to the Pentagon Security requirements. Any individual wishing to attend will need to contact LCDR Miriam Smyth at (703) 695-3573 or CDR Cary Knox at (703) 693-0463 no later than January 30, 2009. Members of the public who do not have Pentagon access will be required provide Name, Date of Birth and Social Security number by January 30, 2009 in order to obtain a visitor badge. Public transportation is recommended as public parking is not available. Members of the public wishing to attend this event must enter through the Pentagon's Metro Entrance between 8:45 a.m. and 9 a.m. At this entrance, they will be required to present two forms of identification in order to receive a visitors badge and meet their escort. Members obtaining visitor badges will then be escorted to Room 1E840 to attend the open sessions of the Advisory Panel. Members of the Public shall remain with designated escorts at all times while on the Pentagon Reservation. Members of the public will be escorted back to the Pentagon Metro Entrance at 10:30 a.m.

FOR FURTHER INFORMATION CONTACT: Colonel Caroline Simkins-Mullins, SECNAV Advisory Panel, Office of Program and Process Assessment 1000 Navy Pentagon, Washington, DC 20350, (703) 697-9154.

SUPPLEMENTARY INFORMATION: Pursuant to the provisions of the Federal Advisory Committee Act, as amended (5 U.S.C. App.), the matters of these classified sessions constitute classified information that is specifically authorized by Executive Order to be kept secret in the interest of national defense and are, in fact, properly classified pursuant to such Executive Order. Accordingly, the Secretary of the Navy has determined in writing that the public interest requires that portions of this meeting be closed to the public because they will be concerned with matters listed in section 552b(c)(1) of Title 5, United States Code.

Individuals or interested groups may submit written statements for consideration by the Secretary of the Navy Advisory Panel at any time or in response to the agenda of a scheduled meeting. All requests must be submitted to the Designated Federal Officer at the address detailed below.

If the written statement is in response to the agenda mentioned in this meeting notice then the statement, if it is to be considered by the Panel for this meeting, must be received at least five days prior to the meeting in question.

The Designated Federal Officer will review all timely submissions with the Secretary of the Navy Advisory Panel Chairperson, and ensure they are provided to members of the Secretary of the Navy Advisory Panel before the meeting that is the subject of this notice.

To contact the Designated Federal Officer, write to: Designated Federal Officer, SECNAV Advisory Panel, Office of Program and Process Assessment 1000 Navy Pentagon, Washington, DC 20350, (703) 697-9154.

Dated: January 12, 2009.
T.M. Cruz,
Lieutenant Commander, Judge Advocate General's Corps, U.S. Navy, Alternate Federal Register Liaison Officer.

[FR Doc. E9-727 Filed 1-14-09; 8:45 am]

BILLING CODE 3810-FF-P